DEPARTMENT OF THE INTERIOR

National Park Service

[NPS-WASO-D-COS-POL-35944; PPWODIREP0, PPMPSAS1Y.YP0000]

Notice of Public Meeting for the National Park System Advisory Board

AGENCY: National Park Service, Interior.

ACTION: Meeting notice.

SUMMARY: In accordance with the Federal Advisory Committee Act of 1972, the National Park Service (NPS) is hereby giving notice that the National Park System Advisory Board (Board) will meet as noted below.

DATES: The Board will hold public meetings on Tuesday, August 15, 2023, from 8:00 a.m. until 5:00 p.m. (EASTERN) and Wednesday, August 16, 2023, from 8:00 a.m. until 5:00 p.m. (EASTERN). Individuals that wish to participate must contact the person listed in the FOR FURTHER INFORMATION CONTACT section no later than August 9, 2023, to receive instructions for accessing the meeting. The meetings are open to the public.

ADDRESSES: The Board will meet at the Stuart Lee Udall Department of the Interior Building, 1849 C St. NW, Washington, DC 20240. Electronic submissions of materials or requests are to be sent to Joshua_winchell@nps.gov. The meeting will also be accessible virtually via webinar and audio conference technology.

FOR FURTHER INFORMATION CONTACT: (a) For information concerning attending the Board meeting or to request to address the Board, contact Joshua Winchell, Staff Director for the Board, Office of Policy, National Park Service, telephone (202) 513-7053, or email joshua_winchell@nps.gov. (b) To submit a written statement specific to, or request information about, any NHL matter listed below, or for information about the National Historic Landmarks (NHL) Program or NHL designation process and the effects of designation, contact Lisa Davidson, Manager, NHL Program, email lisa_davidson@nps.gov. Written comments specific to any NHL matter listed below must be submitted by no later than August 11, 2023. (c) To submit a written statement specific to, or request information about, the National Natural Landmarks (NHL) matter listed below, or for information about the NNL Program or NNL designation process and the effects of designation, contact Heather Eggleston, Manager, NNL Program, email heather_eggleston@nps.gov. Written comments specific to any NNL matter listed below must be submitted by no later than August 11, 2023. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Board has been established by authority of the Secretary of the Interior (Secretary) under 54 U.S.C. 100906 and is regulated by the Federal Advisory Committee Act.

Purpose of the Meeting: The Board will be briefed by NPS officials on the organization, programs, and priorities of the NPS, and will attend to housekeeping matters, including the establishment of committees and the designation of committee chairs. The Board will also receive NHL and NNL proposals for Board deliberation. There also will be an opportunity for public comment. The final agenda and briefing materials will be posted to the Board's website prior to the meeting at https://www.nps.gov/resources/advisoryboard150.htm.

The agenda may include the review of proposed actions regarding the NHL Program and NNL Program. Interested parties are encouraged to submit written comments and recommendations that will be presented to the Board. Interested parties also may attend the Board meeting and upon request may address the Board concerning an area's national significance.

A. National Historic Landmarks (NHL) Program

NHL Program matters will be considered, during which the Board may consider the following:

Nominations for NHL Designation

California

• POND FARM POTTERY, Sonoma County, CA

• WAYFARERS CHAPEL, Rancho Palos Verdes, CA

Colorado

• TEMPLE AARON, Trinidad, CO

• WINKS PANORAMA, Gilpin County, CO

Connecticut

• BARNUM INSTITUTE OF SCIENCE AND HISTORY, Bridgeport, CT

District of Columbia

• NATIONAL ARCHIVES BUILDING, Washington, DC

Idaho

• STRATEGIC AIR COMMAND GROUND ALERT FACILITY, Mountain Home AFB, Elmore County, ID

Illinois

• SAM AND RUTH VAN SICKLE FORD HOUSE, Aurora, IL

Indiana

• MONTGOMERY COUNTY JAIL AND SHERIFF'S RESIDENCE, Crawfordsville, IN

Iowa

• POTTAWATTAMIE COUNTY JAIL AND SHERIFF'S RESIDENCE, Council Bluffs, IA

Massachusetts

• SAMPSON-WHITE JOINER SHOP, Duxbury, MA

Tennessee

• FORT ARMISTEAD, Coker Creek, Monroe County, TN

Texas

• RIO VISTA BRACERO RECEPTION CENTER, Socorro, TX

West Virginia

• JEFFERSON COUNTY COURTHOUSE, Charlestown, WV

Wisconsin

• ROCK ISLAND SITE II, Door County, WI

Wyoming

• QUEBEC 01 LAUNCH CONTROL FACILITY, Laramie County, WY

Proposed Amendments to Existing NHL Designations

District of Columbia

• CARTER G. WOODSON HOUSE (updated documentation), Washington, DC

California

• JOHN MUIR HOME/STRENTZEL-MUIR RANCH (updated documentation, name change), Martinez, Contra Costa County, CA

Illinois

• RIVERSIDE HISTORIC DISTRICT (updated documentation), Riverside, IL

Pennsylvania

• HISTORIC MORAVIAN BETHLEHEM HISTORC DISTRICT (updated documentation), Bethlehem, PA

Tennessee

• HERMITAGE HOTEL (updated documentation), Nashville, TN

Virginia

• WATERFORD HISTORIC DISTRICT (updated documentation), Loudoun County, VA

Proposed Withdrawal of Existing Designations

Illinois

• GOLDENROD SHOWBOAT, Kampsville, Calhoun County, IL

Louisiana

• DELUGE (FIRE FIGHTING TUG), New Orleans, LA

Michigan

• STE. CLAIRE (PASSENGER STEAMBOAT), Wayne County, MI

B. National Natural Landmarks (NNL) Program

NNL Program matters will be considered, during which the Board may consider the following:

Nominations for NNL Designation

Colorado

• GLENWOOD CAVERNS AND IRON MOUNTAIN HOT SPRINGS, Garfield County, CO

New York

• JOHN BOYD THACHER STATE PARK, Albany County, NY

Interested persons may choose to make oral comments at the meeting during the designated time for this purpose. Depending on the number of people wishing to comment and the time available, the amount of time for oral comments may be limited. Interested parties should contact the Staff Director (see FOR FURTHER INFORMATION CONTACT) for advance placement on the public speaker list for this meeting. Members of the public may also choose to submit written comments by emailing them to joshua_winchell@nps.gov. Due to time constraints during the meeting, the Board is not able to read written public comments submitted into the record. All comments will be made part of the public record and will be electronically distributed to all Board members. Detailed minutes of the meeting will be available for public inspection within 90 days of the meeting.

Meeting Accessibility/Special Accommodations: Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. ch. 10.

Alma Ripps,
Chief, Office of Policy.

[FR Doc. 2023-12650 Filed 6-13-23; 8:45 am]

BILLING CODE 4312-52-P